DEPARTMENT OF STATE

[Delegation of Authority No. 354-3]

Delegation of Authority to the Director of Financial Policy, Reporting, and Analysis of Certain Authorities Regarding Debt Collection and Waiver of Claims

Section 1. Delegation

By virtue of the authority vested in the Secretary of State by the laws and authorities of the United States, including those set forth in 22 U.S.C. 2651a; the Debt Collection Improvement Act of 1996, Public Law 104-134 (1996); the Office of Management and Budget's Determination with Respect to Transfer of Functions Pursuant to Public Law 104-316 (December 17, 1996); the Travel and Transportation Reform Act of 1998, Public Law 105-264 (1998); 5 U.S.C. 4108, 5379, 5514, 5522, 5524a, 5705, 5922, and 8707; 22 U.S.C. 2671, 2716, 4047 and 4071; and 31 U.S.C. Chapter 37, and delegated to the Comptroller by Delegation of Authority 354, dated April 23, 2013, I hereby delegate, to the extent authorized by law, the duties, functions and responsibilities for the administrative collection, compromise, suspension, termination of Department collection, advance decision, settlement, and waiver of claims of or against debtors of the Department of State, pursuant to the above-mentioned authorities, to the Director of Financial Policy, Reporting, and Analysis of the Department of State.

Section 2. General Provisions

(a) The Secretary of State, the Deputy Secretary, the Deputy Secretary for Management and Resources, the Under Secretary for Management, or the Comptroller may at any time exercise any function delegated by this delegation of authority. Functions delegated herein may not be re-delegated.

(b) Any reference in this delegation of authority to any act, executive order, determination, delegation of authority, regulation, or procedure shall be deemed to be a reference to such act, executive order, determination, delegation of authority, regulation, or procedure as amended from time to time.

(c) This Delegation of Authority shall be published in the Federal Register.

Dated: December 14, 2020.
Jeffrey C. Mounts,
Comptroller, Department of State.

[FR Doc. 2021-00795 Filed 1-14-21; 8:45 am]

BILLING CODE 4710-37-P